SECURITIES AND EXCHANGE COMMISSION

[File No. 500-1]

In the Matter of China Ruitai International Holdings Co., Ltd.; Order of Suspension of Trading

September 30, 2013.

It appears to the Securities and Exchange Commission that there is a lack of current and accurate information concerning the securities of China Ruitai International Holdings Co., Ltd. (“China Ruitai”) because of questions regarding the accuracy of assertions by China Ruitai, concerning the characterization of certain liabilities in its periodic reports, and because it has not filed any periodic reports since the period ended September 30, 2011.

The Commission is of the opinion that the public interest and the protection of investors require a suspension of trading in the securities of the above-listed company.

Therefore, it is ordered, pursuant to Section 12(k) of the Securities Exchange Act of 1934, that trading in the securities of the above-listed company is suspended for the period from 9:30 a.m. EDT, on September 30, 2013 through 11:59 p.m. EDT, on October 11, 2013.

By the Commission.
Jill M. Peterson,
Assistant Secretary.

[FR Doc. 2013-24202 Filed 9-30-13; 4:15 pm]

BILLING CODE 8011-01-P